DEPARTMENT OF THE INTERIOR

Minerals Management Service

Preparation of an Environmental Assessment for TotalFinaElf Exploration and Production USA, Inc.'s (TotalFinaElf) and Williams Field Services—Gulf Coast Company, L.P. (Williams) Pipeline and Platform Applications (Canyon Express and Canyon Station Pipeline Applications)

AGENCY: Minerals Management Service, Interior.

ACTION: Preparation of an environmental assessment and notice of unlisted activities pursuant to 15 CFR 930.54.

Note: This FR Notice replaces the DEPARTMENT OF THE INTERIOR, Minerals Management Service FR Notice/Vol. 66, No. 119, Wednesday, June 20, 2001/Page 33109 for above subject

SUMMARY: The Minerals Management Service (MMS) is preparing an environmental assessment (EA) for a proposed deepwater project to develop and produce hydrocarbon reserves about 70 miles offshore Louisiana and about 90 miles south of Alabama in Mississippi Canyon Block 348 (Camden Hills Prospect), Mississippi Canyon Block 305 (Aconcagua Prospect), and DeSoto Canyon Blocks 133 and 177 and Mississippi Canyon Block 217 (Kings Peak Prospect) in the Central and Eastern Planning Areas. This Notice provides additional information about the proposed activities and replaces the Notice published on June 20, 2001.

FOR FURTHER INFORMATION CONTACT: Minerals Management Service, Gulf of Mexico OCS Region, 1201 Elmwood Park Boulevard, New Orleans, Louisiana 70123-2394, Mr. Alvin Jones, telephone (504) 736-1713.

SUPPLEMENTARY INFORMATION: This EA implements the tiering process outlined in 40 CFR 1502.20, which encourages agencies to tier environmental documents, eliminating repetitive discussions of the same issue. By use of tiering to the most recent final environmental impact statement (EIS) for the Gulf of Mexico Central Planning Area for Lease Sales 169, 172, 175, 178, and 182 and by referencing related environmental documents, this EA concentrates on environmental issues specific to the proposed action. This Notice also provides constructive notification of these activities pursuant to 15 CFR 930.54.

The MMS Gulf of Mexico Region received Pipeline Right-of-Way (ROW) Applications from TotalFinaElf E&P USA, Inc., that propose to construct, maintain, and operate pipelines and umbilicals and produce the hydrocarbon reserves discovered in the Camden Hills field [Mississippi Canyon (MC) Block 348], the Aconcagua field (MC Block 305), and the Kings Peak field (MC Blocks 217 and 173; DeSoto Canyon (DC) Blocks 133 and 177). The Region also received a Right-of-Use and Easement application from Williams Field Services, Gulf Coast Company, L.P., for the installation and operation of a hydrocarbon processing platform located in Main Pass (MP) Block 261, which will receive production from the Camden Hills, Aconcagua, and Kings Peak fields. The combined Applications are referred to as the Canyon Express / Station Project. TotalFinaElf is the designated operator (DO) for the Canyon Express system, which includes the Camden Hills field [leased by Marathon Oil Company (DO)]; the Aconcagua field [leased by TotalFinaElf (DO)]; and the Kings Peak field, [leased by BP; (DO)]. The proposed Canyon Station processing platform would be installed and operated by Williams Field Services and would be within 100 km of the Breton National Wildlife Refuge. Between nine and eleven wells that were proposed under previously-approved Plans and Development Operations Coordination Documents will be operated by TotalFinaElf. Williams' proposed platform would receive gas and condensate from the Canyon Express Project and export the gas through four proposed export pipelines to four existing pipelines, all within MP Block 261. The Canyon Express/Station Project, which includes all export lines, flow lines, supply lines, jumpers, and umbilicals, consists of 32 individual pipeline segments to be permitted as ROW and lease-term pipelines and one host platform to be permitted as a Right-of-Use and Easement.

The Canyon Express ROW Applications consist of 28 ROW and lease-term pipeline segments. The lengths of pipeline segments range from 60 feet to over 55 miles. The water depth ranges from 7,265 feet in MC Block 348 to 299 feet at the proposed host platform in MP Block 261. TotalFinaElf will use a support base located in Fourchon, Louisiana, to support pipelaying activities associated with the Canyon Express Project. Some segments and portions of the proposed Canyon Express pipeline originate in and/or traverse six blocks in the Eastern Planning Area.

The Canyon Station Right-of-Use and Easement processing platform application consists of a processing platform and four export pipeline applications all within the Central Planning Area's MP Block 261. The water depth of the four export pipelines ranges from 282 to 307 feet. The average length of the four proposed export pipelines is 1.12 miles. Williams will initially use a support base in Venice, Louisiana, and switch operations to Mobile, Alabama, once production commences.

The two Canyon Express main flowlines are 12.75 inches in diameter and extend about 55 miles starting in MC Block 348 to MP Block 261. Outer Continental Shelf areas and blocks traversed by the Canyon Express/Station proposed pipelines are as follows: MC Blocks 348, 349, 305, 261, 217, 173, 85, and 41; DC Blocks 265, 221, 177, 133, 89, and 45 (within the Eastern Planning Area); Viosca Knoll (VK) Blocks 1003, 1002, 958, 914, 913, 869, 825, 824, 781, 780, 736, and 692; and MP Blocks 282, 261, and 260. The MC, VK, and MP areas and blocks are in the Central Planning Area. No additional drilling operations are considered as a part of this project.

Gas and condensate produced at the Camden Hills, Aconcagua, and Kings Peak fields will be transported to the proposed platform in MP Block 261. No single field contains sufficient reserves to economically justify development costs. The total reserves in the three fields are estimated as high as 900 billion cubic feet of gas. Greater than 99 percent of this gas is pure methane. Maximum Canyon Express hydrocarbon flow rate is 500 million cubic feet (0.5 BCF) per day with approximately 1,500 barrels of condensate per day. Canyon Express pipelines will be laid using a dynamically positioned vessel and construction time is estimated at about 90 days. Installation of the host platform, export lines, and production equipment for Canyon Station is expected to take several months.

The nearest distance of the Canyon Express easternmost flowline in DC Block 45 (in the Eastern Planning Area) is 98 miles from the Florida shoreline, 89 miles from the Alabama shoreline, 93 miles from the Mississippi shoreline, and 68 miles from the Louisiana shoreline. The nearest distance of the proposed host platform (in the Central Planning Area's MP Block 261) is 74 miles from the Florida shoreline, 60 miles from the Alabama shoreline, 63 miles from the Mississippi shoreline, and 56 miles from the Louisiana shoreline.

This EA will analyze the environmental effects and alternatives associated with the construction, maintenance, and operation of the pipelines and host platform as proposed by TotalFinaElf and Williams. Alternatives will include the proposed action with additional mitigations and no action (i.e., disapproval of the plan).

For more information regarding the Canyon Express and Canyon Station applications, please visit those documents at http://www.gomr.mms.gov/homepg/offshore/canyon/. For more information about pipelines, impacts associated with pipelaying activities, and mitigative measures, please visit the document at http://www.gomr.mms.gov/homepg/offshore/canyon/pipe_install.pdf.

Public Comments: The MMS requests interested parties to submit comments regarding issues that should be addressed in the EA to Minerals Management Service, Gulf of Mexico OCS Region, Office of Leasing and Environment, Attention: Regional Supervisor (MS 5400), 1201 Elmwood Park Boulevard, New Orleans, Louisiana 70123-2394. Comments must be submitted no later than 30 days from the publication date of this Notice.

Dated: July 3, 2001.
Charles J. Schoennagel,
Deputy Regional Director, Gulf of Mexico OCS Region.

[FR Doc. 01-19223 Filed 8-1-01; 8:45 am]

BILLING CODE 4310-MR-P